DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Clear Creek County, Colorado, and Incorporated Areas
Docket No.: FEMA-B-1202
Bear Creek | Approximately 0.42 mile downstream of Golden Willow Road | +7409 | Unincorporated Areas of Clear Creek County.
| At the downstream side of the Corral Creek confluence | +7549
Clear Creek | At the upstream side of the Georgetown Lake footbridge | +8452 | Town of Georgetown, Unincorporated Areas of Clear Creek County.
| Approximately 1,980 feet upstream of 6th Street | +8636
South Clear Creek | Approximately 80 feet upstream of Rose Street | +8498 | Town of Georgetown, Unincorporated Areas of Clear Creek County.
| Approximately 1,670 feet upstream of Main Street | +8697
South Clear Creek—Weir 1248 Overflow | Approximately 100 feet upstream of the South Clear Creek confluence | +8498 | Town of Georgetown.
| At the downstream side of the South Clear Creek divergence | +8517
South Clear Creek—Weir 835 Overflow | Approximately 170 feet upstream of the Clear Creek confluence | +8487 | Town of Georgetown.
| At the downstream side of the South Clear Creek divergence | +8507
Virginia Canyon | At the upstream side of Riverside Drive | +7521 | City of Idaho Springs, Unincorporated Areas of Clear Creek County.
| Approximately 800 feet upstream of Virginia Street | +7655
* National Geodetic Vertical Datum.
+ North American Vertical Datum.
# Depth in feet above ground.
‸ Mean Sea Level, rounded to the nearest 0.1 meter.
ADDRESSES
City of Idaho Springs
Maps are available for inspection at City Hall, 1711 Miner Street, Idaho Springs, CO 80452.
Town of Georgetown
Maps are available for inspection at the Town Hall, 404 6th Street, Georgetown, CO 80444.
Unincorporated Areas of Clear Creek County
Maps are available for inspection at the Clear Creek County Courthouse, 405 Argentine Street, Georgetown, CO 80444.
Kane County, Illinois, and Incorporated Areas
Docket No.: FEMA-B-1197
Big Rock Creek | Approximately 1.68 miles downstream of Jericho Road (at the Kendall County boundary) | +648 | Unincorporated Areas of Kane County, Village of Big Rock.
| Approximately 1.0 mile upstream of Price Road (at the West Branch Big Rock Creek and East Branch Big Rock Creek confluence) | +689
Duffin Drain | At the Sugar Grove Branch confluence | +678 | Unincorporated Areas of Kane County, Village of Big Rock, Village of Sugar Grove.
| At the downstream side of Wheeler Road | +702
East Branch Big Rock Creek | At the Big Rock Creek confluence | +689 | Unincorporated Areas of Kane County, Village of Big Rock.
| At the Malgren Drain confluence | +709
East Branch Big Rock Creek | At the upstream side of Owens Road | +779 | Unincorporated Areas of Kane County.
| At the East Branch Big Rock Creek Tributary 2 confluence | +810
East Branch Big Rock Creek Tributary 2 | At the East Branch Big Rock Creek confluence | +810 | Unincorporated Areas of Kane County.
| Approximately 0.47 mile upstream of Keslinger Road | +846
Malgren Drain | At the East Branch Big Rock Creek confluence | +709 | Unincorporated Areas of Kane County, Village of Big Rock.
| At the downstream side of Swan Road | +741
Sugar Grove Branch | At the Welch Creek confluence | +677 | Unincorporated Areas of Kane County.
| Approximately 1,150 feet downstream of Fay's Lane | +680
Welch Creek | At the Big Rock Creek confluence | +665 | Unincorporated Areas of Kane County, Village of Big Rock, Village of Sugar Grove.
| At the downstream side of Keslinger Road | +813
West Branch Big Rock Creek | At the Big Rock Creek confluence | +689 | Unincorporated Areas of Kane County.
| At the downstream side of U.S. Route 30 | +720
* National Geodetic Vertical Datum.
+ North American Vertical Datum.
# Depth in feet above ground.
‸ Mean Sea Level, rounded to the nearest 0.1 meter.
ADDRESSES
Unincorporated Areas of Kane County
Maps are available for inspection at the Kane County Government Center, Building A, 719 Batavia Avenue, Geneva, IL 60134.
Village of Big Rock
Maps are available for inspection at the Village Hall, 408 Rhodes Street, Big Rock, IL 60511.
Village of Sugar Grove
Maps are available for inspection at the Village Hall, 10 Municipal Drive, Sugar Grove, IL 60554.
Monroe County, Kentucky, and Incorporated Areas
Docket No.: FEMA-B-1038
Cumberland River | Approximately 5,200 feet downstream of the confluence with McFarland Creek | +518 | Unincorporated Areas of Monroe County.
| At the confluence with Glasscock Creek | +536
* National Geodetic Vertical Datum.
+ North American Vertical Datum.
# Depth in feet above ground.
‸ Mean Sea Level, rounded to the nearest 0.1 meter.
ADDRESSES
Unincorporated Areas of Monroe County
Maps are available for inspection at 200 North Main Street, Tompkinsville, KY 42167.
Norfolk County, Massachusetts (All Jurisdictions)
Docket Nos.: FEMA-B-1066 and B-1139
Atlantic Ocean | Along the shoreline, approximately 100 feet south of the intersection of Stockbridge Street and Margin Street | +21 | Town of Cohasset.
| Along the shoreline, approximately 330 feet northeast of the end of Whitehead Road | +21
Beaver Brook | Approximately 0.83 mile downstream of Plymouth Street | +161 | Town of Weymouth.
| Approximately 0.6 mile downstream of Plymouth Street | +161
Bubbling Brook | Approximately 1,000 feet upstream of Brook Street | +144 | Town of Walpole.
| Approximately 800 feet upstream of North Street | +228
Backwater from the Farm River | From the Farm River to approximately 1,600 feet upstream of West Street and immediately south of I-93 | +120 | City of Quincy.
Germany Brook | Approximately 1,500 feet downstream of Winter Street | +169 | Town of Norwood.
| At Winter Street | +175
Great Pond Tributary | Just upstream of Randolph Street | +161 | Town of Weymouth.
| Approximately 400 feet upstream of Randolph Street | +161
Lake Mirimichi | Entire shoreline | +161 | Town of Foxborough.
Neponset River | Approximately 1.07 miles downstream of Milton Street | +44 | Town of Dedham.
| Approximately 0.75 mile downstream of Milton Street | +44
Neponset River | Approximately 400 feet downstream of I-95 | +48 | Town of Sharon.
| Just downstream of I-95 | +48
New Pond (Backwater effects from Charles River) | Entire shoreline | +74 | Town of Needham.
Rabbit Hill Pond | At the Rabbit Hill Pond Dam | +177 | Town of Plainville.
| Approximately 750 feet upstream of the Rabbit Hill Pond Dam | +178
School Meadow Brook | Approximately 2,000 feet downstream of U.S. Route 1 | +187 | Town of Sharon.
| Approximately 350 feet upstream of U.S. Route 1 | +188
Stall Brook | Approximately 750 feet west of the intersection of Alder Street and Trotter Drive | +246 | Town of Medway.
| Approximately 350 feet east of the intersection of Route 109 and Green Street | +246
Walnut Hill Stream | Approximately 400 feet downstream of South Main Street | +10 | Town of Cohasset.
| Approximately 80 feet downstream of South Main Street | +10
Weymouth Fore River Bay | Along the shoreline, approximately 275 feet east of the intersection of Pleasant View Avenue and Venus Road | +12 | Town of Braintree, Town of Weymouth.
| Along the shoreline, approximately 1,000 feet west of the intersection of Monatiquot Street and Bluff Road | +15
* National Geodetic Vertical Datum.
+ North American Vertical Datum.
# Depth in feet above ground.
‸ Mean Sea Level, rounded to the nearest 0.1 meter.
ADDRESSES
City of Quincy
Maps are available for inspection at City Hall, 1305 Hancock Street, Quincy, MA 02169.
Town of Braintree
Maps are available for inspection at the Town Hall, 1 John F. Kennedy Memorial Drive, Braintree, MA 02184.
Town of Cohasset
Maps are available for inspection at the Town Hall, 41 Highland Avenue, Cohasset, MA 02025.
Town of Dedham
Maps are available for inspection at the Town Administration Building, 26 Bryant Street, Dedham, MA 02026.
Town of Foxborough
Maps are available for inspection at the Town Hall, 40 South Street, Foxborough, MA 02035.
Town of Medway
Maps are available for inspection at the Town Hall, 155 Village Street, Medway, MA 02053.
Town of Needham
Maps are available for inspection at the Town Hall, 1471 Highland Avenue, Needham, MA 02492.
Town of Norwood
Maps are available for inspection at the Town Hall, 566 Washington Street, 2nd Floor, Norwood, MA 02062.
Town of Plainville
Maps are available for inspection at the Town Hall, 142 South Street, Plainville, MA 02762.
Town of Sharon
Maps are available for inspection at the Town Office Building, 90 South Main Street, Sharon, MA 02067.
Town of Walpole
Maps are available for inspection at the Town Hall, 135 School Street, Walpole, MA 02081.
Town of Weymouth
Maps are available for inspection at the Town Hall, 75 Middle Street, Weymouth, MA 02189.
Plymouth County, Massachusetts (All Jurisdictions)
Docket No.: FEMA-B-7786
Aassawompsett Pond | Entire shoreline within community | +55 | Town of Middleborough.
Accord Brook | Approximately 3,300 feet upstream of State Route 228 | +115 | Town of Norwell.
Atlantic Ocean | Approximately 150 feet south of the intersection of Brant Beach Avenue and Ocean View Avenue | +19 | Town of Hingham, Town of Hull, Town of Marion, Town of Mattapoisett, Town of Wareham.
| Approximately 210 feet southeast of the intersection of Highland Avenue and Mount Pleasant Way | +22
Bear Swamp | The area around State Route 105 | +14 | Town of Rochester.
Doggett Brook | The area around State Route 105 | +14 | Town of Rochester.
Fall Brook | The low land area between Azel Road and Howland Road | +82 | Town of Lakeville.
French Stream | Approximately 1,200 feet upstream of the Golf Cart Bridge | +104 | Town of Abington.
| Approximately 900 feet downstream of Spruce Street | +123
Great Quittacas Pond | Entire shoreline within community | +55 | Town of Middleborough, Town of Rochester.
Hathaway Pond | The area around State Route 105 | +14 | Town of Rochester.
Hockomock River | At the Town River confluence | +63 | Town of Bridgewater.
| Approximately 1,000 feet downstream of the Maple Street Bridge | +63
Matfield River | At the Bridge Street bridge | +33 | Town of East Bridgewater.
| Approximately 260 feet upstream of the Bridge Street bridge | +33
Meadow Brook | Approximately 300 feet downstream of State Route 18 | +75 | Town of Whitman.
Oldham Pond | Entire shoreline within community | +59 | Town of Hanson.
Rocky Meadow Brook | At the Weweantic River confluence | +77 | Town of Middleborough.
| Approximately 0.75 mile upstream of France Street | +84
Salisbury Plain River | Approximately 1 mile downstream of the Sergents Way Bridge | +67 | Town of West Bridgewater.
| Approximately 3,200 feet downstream of the Sergents Way Bridge | +70
Satucket River | Just upstream of the Pond Street Bridge | +42 | Town of Halifax.
Shumatuscacant River | Approximately 1,000 feet upstream of the Essex Street Bridge | +78 | Town of Whitman.
| Approximately 3,000 feet upstream of the Essex Street Bridge | +80
Stream River | At the Shumatuscacant River confluence | +80 | Town of Whitman.
| Approximately 400 feet upstream of the Shumatuscacant River confluence | +80
Third Herring Brook | From downstream of the River Street Bridge to the North River confluence | +8 | Town of Hanover.
Town River | Approximately 1,200 feet upstream of the High Street Bridge | +47 | Town of Bridgewater.
| Approximately 1,500 feet upstream of the High Street Bridge | +48
| Approximately 1,100 feet upstream of the Forest Road Bridge | +62
| At the Hockomock River confluence | +63
Tributary A | Just upstream of the Summer Street Bridge | +71 | Town of Hanover.
Tributary to Meadow Brook | Approximately 1,300 feet upstream of the Meadow Brook confluence | +75 | Town of Whitman.
| Approximately 1,600 feet upstream of the Meadow Brook confluence | +75
Weweantic River | Approximately 1 mile downstream of State Route 58 | +63 | Town of Middleborough, Town of Wareham.
| At the Rocky Meadow Brook confluence | +77
* National Geodetic Vertical Datum.
+ North American Vertical Datum.
# Depth in feet above ground.
‸ Mean Sea Level, rounded to the nearest 0.1 meter.
ADDRESSES
Town of Abington
Maps are available for inspection at the Town Hall, 500 Gliniewicz Way, Abington, MA 02351.
Town of Bridgewater
Maps are available for inspection at the Town Hall, 66 Central Square, Bridgewater, MA 02324.
Town of East Bridgewater
Maps are available for inspection at the Town Hall, 175 Central Street, East Bridgewater, MA 02333.
Town of Halifax
Maps are available for inspection at the Town Hall, 499 Plymouth Street, Halifax, MA 02338.
Town of Hanover
Maps are available for inspection at the Town Hall, 550 Hanover Street, Suite 29, Hanover, MA 02339.
Town of Hanson
Maps are available for inspection at the Town Hall, 542 Liberty Street, Hanson, MA 02341.
Town of Hingham
Maps are available for inspection at the Town Hall, 210 Central Street, Hingham, MA 02043.
Town of Hull
Maps are available for inspection at the Town Hall, 253 Atlantic Avenue, Hull, MA 02045.
Town of Lakeville
Maps are available for inspection at the Town Hall, 346 Bedford Street, Lakeville, MA 02347.
Town of Marion
Maps are available for inspection at the Town Hall, 2 Spring Street, Marion, MA 02738.
Town of Mattapoisett
Maps are available for inspection at the Town Hall, 16 Main Street, Mattapoisett, MA 02739.
Town of Middleborough
Maps are available for inspection at the Town Hall, 10 Nickerson Avenue, Middleborough, MA 02346.
Town of Norwell
Maps are available for inspection at the Town Hall, 345 Main Street, Norwell, MA 02061.
Town of Rochester
Maps are available for inspection at the Town Hall, One Constitution Way, Rochester, MA 02770.
Town of Wareham
Maps are available for inspection at the Memorial Town Hall, Administration Department, 54 Marion Road, Wareham, MA 02571.
Town of West Bridgewater
Maps are available for inspection at the Town Hall, 65 North Main Street, West Bridgewater, MA 02379.
Town of Whitman
Maps are available for inspection at the Town Hall, 54 South Avenue, Whitman, MA 02382.
Pontotoc County, Oklahoma, and Incorporated Areas
Docket Nos.: FEMA-B-1071 and B-1214
Clear Boggy Creek | Approximately 990 feet downstream of State Highway 377 | +817 | City of Ada, Unincorporated Areas of Pontotoc County.
| Approximately 400 feet downstream of Stonecipher Boulevard | +819
Clear Boggy Creek | At the downstream side of Cradduck Road | +865 | Unincorporated Areas of Pontotoc County.
| Approximately 0.4 mile upstream of Cradduck Road | +876
Little Sandy Creek | Approximately 900 feet downstream of North 3570 Road | +916 | City of Ada, Unincorporated Areas of Pontotoc County.
| Approximately 528 feet upstream of Constant Avenue | +984
Town Branch | Approximately 1,500 feet downstream of North 3700 Road | +822 | Town of Allen, Unincorporated Areas of Pontotoc County.
| Approximately 1,600 feet upstream of South Saint Memphis Road | +856
Tributary 1 | At the downstream side of U.S. Route 3 | +824 | Unincorporated Areas of Pontotoc County.
| Approximately 1,975 feet upstream of County Road East 1570 | +845
Tributary 2 | Approximately 600 feet upstream of the Tributary 1 confluence | +831 | Unincorporated Areas of Pontotoc County.
| Approximately 1,175 feet upstream of County Road East 1570 | +853
* National Geodetic Vertical Datum.
+ North American Vertical Datum.
# Depth in feet above ground.
‸ Mean Sea Level, rounded to the nearest 0.1 meter.
ADDRESSES
City of Ada
Maps are available for inspection at 231 South Townsend Street, Ada, OK 78420.
Town of Allen
Maps are available for inspection at 109 North Memphis Street, Allen, OK 78425.
Unincorporated Areas of Pontotoc County
Maps are available for inspection at 120 West 13th Street, Ada, OK 74821.
Yakima County, Washington, and Incorporated Areas
Docket No.: FEMA-B-1188
Cottonwood Creek | Approximately 970 feet downstream of Dazet Road | +1244 | Unincorporated Areas of Yakima County.
| Approximately 2.08 miles upstream of Hubbard Road | +1831
Cottonwood Creek Left Bank Overflow Downstream | At the Cottonwood Creek confluence | +1293 | Unincorporated Areas of Yakima County.
| At the Cottonwood Creek divergence | +1323
Cottonwood Creek Left Bank Overflow Upstream | Approximately 0.26 mile downstream of Canyon Road | +1406 | Unincorporated Areas of Yakima County.
| Approximately 0.64 mile upstream of Canyon Road | +1475
Cottonwood Creek Tributary 1 | At the Cottonwood Creek confluence | +1613 | Unincorporated Areas of Yakima County.
| Approximately 0.53 mile upstream of Cottonwood Canyon Road | +1668
Secondary Tributary to Wide Hollow Tributary 2 | At the Tributary to Wide Hollow Creek Tributary 2 confluence | +1519 | Unincorporated Areas of Yakima County.
| Approximately 0.36 mile upstream to the Tributary to Wide Hollow Creek Tributary 2 confluence | +1569
Shaw Creek | At the Wide Hollow Creek confluence | +1179 | City of Yakima, Unincorporated Areas of Yakima County.
| Approximately 160 feet upstream of Summitview Road | +1438
Shaw Creek-Wide Hollow Creek Overflow | At the Wide Hollow Creek confluence | +1152 | City of Yakima.
| Approximately 0.27 mile upstream of Westbrook Loop | +1182
Shaw Creek-Wide Hollow Creek Walmart Overflow 1 | At the Wide Hollow Creek confluence | +1151 | City of Yakima.
| Approximately 1,307 feet upstream of South 64th Avenue | +1158
Shaw Creek-Wide Hollow Creek Walmart Overflow 2 | At the Wide Hollow Creek confluence | +1149 | City of Yakima.
| Approximately 1,236 feet upstream of South 64th Avenue | +1160
Shaw Creek Ditch 1 | At the Shaw Creek confluence | +1431 | Unincorporated Areas of Yakima County.
| Approximately 170 feet downstream of North 112th Avenue | +1435
Shaw Creek Left Bank Overflow | At the Shaw Creek confluence | +1252 | Unincorporated Areas of Yakima County.
| At the Shaw Creek divergence | +1270
Shaw Creek North Pear Overflow | At the Shaw Creek confluence | +1235 | City of Yakima, Unincorporated Areas of Yakima County.
| Approximately 560 feet upstream of Orchard Avenue | +1284
Shaw Creek Overflow | At the Shaw Creek confluence | +1187 | City of Yakima, Unincorporated Areas of Yakima County.
| Approximately 0.3 mile upstream of South 91st Avenue | +1222
Shaw Creek Overflow South | At the Shaw Creek confluence | +1182 | City of Yakima, Unincorporated Areas of Yakima County.
| Approximately 0.32 mile upstream of South 88th Avenue | +1215
Shaw Creek Tributary | At the Shaw Creek confluence | +1230 | Unincorporated Areas of Yakima County.
| Approximately 160 feet downstream of South Mize Road | +1407
Tributary to Wide Hollow Creek Tributary 2 | At the Wide Hollow Creek Tributary 2 confluence | +1470 | Unincorporated Areas of Yakima County.
| Approximately 0.42 mile upstream of Lynch Road | +1566
Wide Hollow Creek | At the Yakima River confluence | +958 | City of Union Gap, City of Yakima, Unincorporated Areas of Yakima County.
| Approximately 1.08 miles upstream of Stone Road | +1733
Wide Hollow Creek Mill Weir Overflow | At the Wide Hollow Creek confluence | +958 | City of Union Gap.
| At the Wide Hollow Creek divergence | +964
Wide Hollow Creek Right Bank Overflow 1 | At the Wide Hollow Creek confluence | +1413 | Unincorporated Areas of Yakima County.
| Approximately 0.32 mile upstream of Wide Hollow Road | +1450
Wide Hollow Creek Tributary 1 | At the Wide Hollow Creek confluence | +1482 | Unincorporated Areas of Yakima County.
| Approximately 1.08 miles upstream of Cook Road | +1712
Wide Hollow Creek Tributary 1 Midflow Split | At the Wide Hollow Creek Tributary 1 confluence | +1647 | Unincorporated Areas of Yakima County.
| At the Wide Hollow Creek Tributary 1 divergence | +1660
Wide Hollow Creek Tributary 1 Left Bank Overflow | Approximately 300 feet downstream of Stone Road | +1470 | Unincorporated Areas of Yakima County.
| Approximately 0.7 mile upstream of Hollow Creek Lane | +1545
Wide Hollow Creek Tributary 2 | At the Wide Hollow Creek confluence | +1450 | Unincorporated Areas of Yakima County.
| Approximately 0.45 mile upstream of Tieton Drive | +1594
Wide Hollow Structure 116 Bypass | At the Wide Hollow Creek confluence | +1370 | Unincorporated Areas of Yakima County.
| At the Wide Hollow Creek divergence | +1378
Wide Hollow Structure 125 Bypass | At the Wide Hollow Creek confluence | +1430 | Unincorporated Areas of Yakima County.
| At the upstream side of Wide Hollow Road | +1438
Wide Hollow Structure 21 Bypass | At the Ahtanum Creek confluence | +953 | City of Union Gap, Unincorporated Areas of Yakima County.
| At the Wide Hollow Creek divergence | +975
Wide Hollow Structure 36 Bypass | At the Wide Hollow Creek confluence | +1012 | City of Union Gap.
| At the Wide Hollow Creek divergence | +1016
Wide Hollow Structure 47 Bypass | At the Wide Hollow Creek confluence | +1045 | City of Union Gap.
| At the Wide Hollow Creek divergence | +1050
Wide Hollow Structure 86 Bypass | At the Wide Hollow Creek confluence | +1203 | Unincorporated Areas of Yakima County.
| At the Wide Hollow Creek divergence | +1217
Wide Hollow Structure 99 Bypass | At the Wide Hollow Creek confluence | +1264 | Unincorporated Areas of Yakima County.
| At the Wide Hollow Creek divergence | +1280
* National Geodetic Vertical Datum.
+ North American Vertical Datum.
# Depth in feet above ground.
‸ Mean Sea Level, rounded to the nearest 0.1 meter.
ADDRESSES
City of Union Gap
Maps are available for inspection at 102 West Ahtanum Road, Union Gap, WA 98903.
City of Yakima
Maps are available for inspection at 129 North 2nd Street, Yakima, WA 98901.
Unincorporated Areas of Yakima County
Maps are available for inspection at 128 North 2nd Street, Yakima, WA 98901.

(Catalog of Federal Domestic Assistance No. 97.022, “Flood Insurance.”)

Sandra K. Knight,
Deputy Associate Administrator for Mitigation, Department of Homeland Security, Federal Emergency Management Agency.

[FR Doc. 2012-17191 Filed 7-12-12; 8:45 am]

BILLING CODE 9110-12-P